DEPARTMENT OF HOUSING AND URBAN DEVELOPMENT

[Docket No. FR-5281-N-21]

Notice of Submission of Proposed Information Collection to OMB; Emergency Comment Request Homelessness Prevention and Rapid Re-Housing Program (HPRP) Annual Action Plan Substantial Amendment Form

AGENCY: Office of Community Planning and Development, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: March 23, 2009.

ADDRESSES: Interested persons are invited to submit comments regarding this proposal. Comments must be received within seven (7) days from the date of this Notice. Comments should refer to the proposal by name and/or OMB approval number and should be sent to: Ms. Kimberly P. Nelson, HUD Desk Officer, Office of Management and Budget, New Executive Office Building, Washington, DC 20502; e-mail: Kimberly_P._Nelson@omb.eop.gov; fax: (202) 395-6974.

FOR FURTHER INFORMATION CONTACT: Lillian Deitzer, Reports Management Officer, QDAM, Department of Housing and Urban Development, 451 Seventh Street, SW., Washington, DC 20410; e-mail: Lillian.L.Deitzer@hud.gov; telephone (202) 402-8048. This is not a toll-free number. Copies of available documents should be submitted to OMB and may be obtained from Ms. Deitzer.

SUPPLEMENTARY INFORMATION: This Notice informs the public that the U.S. Department of Housing and Urban Development (HUD) has submitted to OMB, for emergency processing, a proposed information collection for the Homelessness Prevention Fund, which is authorized under the American Recovery and Reinvestment Act (ARRA) of 2009. This new program provides $1.5 billion of formula grant funding for the provision of short-term or medium-term rental assistance, housing relocation and stabilization services, and other appropriate activities for homelessness prevention and rapid re-housing of persons who have become homeless. HUD will administer these funds as the Homelessness Prevention and Rapid Re-Housing Program (HPRP) and require a substantial amendment to the grantee's Consolidated Plan 2008 Annual Action Plan as a condition of receiving funds. HPRP grant amounts will be determined by a formula authorized by Section 413 of the McKinney-Vento Homeless Assistance Act and will be awarded by HUD to the following eligible grantees: states, metropolitan cities, and urban counties that receive over $500,000 according to the formula allocation, and territories, which receive 0.2% of the total allocation.

This Notice also lists the following information:

Title of Proposal: Homelessness Prevention and Rapid Re-Housing Program: Substantial Amendment to the Consolidated Plan 2008 Annual Action Plan.

Description of Information Collection: This is a new information collection. The Department of Housing and Urban Development is seeking emergency review of the Paperwork Reduction Act Requirements associated with the Homelessness Prevention and Rapid Re-Housing Program (HPRP).

Each HPRP grantee is required to submit (1) a SF-424 signed by an authorized representative; and (2) a HUD-40119, signed by an authorized official, which provides a description of how the grantee plans to use and monitor the use of the HPRP funds.

OMB Control Number: Pending.

Agency Form Numbers: SF-424; HUD-40119.

Members of the Affected Public: Eligible grantees.

Estimation of the total numbers of hours needed to prepare the information collection including number of responses, frequency of responses, and hours of responses: An estimation of the total number of reporting hours is 16.75 per response. The number of respondents is 540. The total hours requested is 9,045.

Authority: The Paperwork Reduction Act of 1995, 44 U.S.C. Chapter 35, as amended.

Dated: March 10, 2009.
Lillian Deitzer,
Departmental Reports Management Officer, Office of the Chief Information Officer.

[FR Doc. E9-5633 Filed 3-13-09; 8:45 am]

BILLING CODE 4210-67-P